FEDERAL COMMUNICATIONS COMMISSION

Sunshine Act Meeting

November 2, 2000.

Open Commission Meeting, Thursday, November 9, 2000

The Federal Communications Commission will hold an Open Meeting on the subjects listed below on Thursday, November 9, 2000, which is scheduled to commence at 9:30 a.m. in Room TW-C305, at 445 12th Street, SW., Washington, DC.

Item No. | Bureau | Subject
1 | Common Carrier | Title: 2000 Biennial Regulatory Review—Telecommunications Service Quality Reporting Requirements.
|  | Summary: The Commission will consider a Notice of Proposed Rule Making concerning measures to streamline and reform its service quality monitoring program.
2 | Common Carrier | Title: 2000 Biennial Regulatory Review of Part 68 of the Commission's Rules and Regulations (CC Docket No. 99-216).
|  | Summary: The Commission will consider a Report and Order concerning streamlining and privatizing the detailed regulations in Part 68 of the rules relating to the attachment of terminal equipment to the public switched telephone network.
3 | Wireless Telecommunications and Office of Engineering and Technology | Title: Promoting Efficient Use of Spectrum Through Elimination of Barriers to the Development of Secondary Markets.
|  | Summary: The Commission will consider a Notice of Proposed Rule Making concerning the promotion of secondary market mechanisms to facilitate efficient use of wireless spectrum in the public interest.
4 | Office of Engineering and Technology and Wireless Telecommunications | Title: Principles for Encouraging the Development of Secondary Markets for Spectrum.
|  | Summary: The Commission will consider a Policy Statement setting forth guiding principles for the promotion of secondary market mechanisms to facilitate efficient use of wireless spectrum in the public interest.
5 | Wireless Telecommunications | Title: Implementation of Sections 309(j) and 337 of the Communications Act of 1934 as Amended (WT Docket No. 99-87); Promotion of Spectrum Efficient Technologies on Certain Part 90 Frequencies (RM-9332); Establishment of Public Service Radio Pool in the Private Mobile Frequencies Below 800 MHz (RM-9405); and Petition for Rule Making of The American Mobile Telecommunications Association (RM-9705).
|  | Summary: The Commission will consider a Report and Order and Further Notice of Proposed Rule Making regarding the Balanced Budget Act of 1997's statutory revisions to section 309(j) of the Communications Act of 1934, as amended, which governs the Commission's competitive bidding authority, and certain Petitions for Rule Making proposing revisions to the licensing rules for the public safety and private radio services.

Additional information concerning this meeting may be obtained from Maureen Peratino or David Fiske, Office of Media Relations, telephone number (202) 418-0500; TTY (202) 418-2555.

Copies of materials adopted at this meeting can be purchased from the FCC's duplicating contractor, International Transcription Services, Inc. (ITS, Inc.) at (202) 857-3800; fax (202) 857-3805 and 857-3184; or TTY (202) 293-8810. These copies are available in paper format and alternative media, including large print/type; digital disk; and audio tape. ITS may be reached by e-mail: its_inc@ix.netcom.com. Their Internet address is http://www.itsdocs.com/.

This meeting can be viewed over George Mason University's Capitol Connection. The Capitol Connection also will carry the meeting live via the Internet. For information on these services call (703) 993-3100. The audio portion of the meeting will be broadcast live on the Internet via the FCC's Internet audio broadcast page at <http://www.fcc.gov/realaudio/>. The meeting can also be heard via telephone, for a fee, from National Narrowcast Network, telephone (202) 966-2211 or fax (202) 966-1770. Audio and video tapes of this meeting can be purchased from Infocus, 341 Victory Drive, Herndon, VA 20170, telephone (703) 834-0100; fax number (703) 834-0111.

Federal Communications Commission.
Magalie Roman Salas,
Secretary.

[FR Doc. 00-28605 Filed 11-3-00; 11:25 am]

BILLING CODE 6712-01-M